ENVIRONMENTAL PROTECTION AGENCY

[FRL-7511-3]

Proposed Settlement Agreement

AGENCY: Environmental Protection Agency.

ACTION: Notice of proposed settlement agreement; request for public comment.

SUMMARY: In accordance with section 113(g) of the Clean Air Act, as amended, 42 U.S.C. 7413(g), notice is hereby given of a proposed settlement agreement in the following cases filed in the U.S. Court of Appeals for the District of Columbia Circuit: Engine Manufacturers Ass'n v. EPA, No. 00-1066; Engine Manufacturers Ass'n, et al. v. EPA, Nos. 01-1129 and 02-1080; International Truck and Engine Corp., et al. v. EPA, Nos. 00-1510 and 00-1512; International Truck and Engine Corp. v. EPA, No. 01-1137; and Engine Manufacturers Ass'n v. EPA, No. 03-1007. These cases concern the U.S. Environmental Protection Agency's (EPA) promulgation of regulations requiring manufacturers of heavy-duty diesel motor vehicle engines and nonroad marine diesel engines to control emissions by meeting not-to-exceed (NTE) emission standards and test procedures, and EPA's issuance of guidance concerning certification of heavy-duty diesel motor vehicle engines.

DATES: Written comments on the proposed settlement agreement must be received by July 14, 2003.

ADDRESSES: Copies of the proposed settlement are available from Phyllis Cochran, Air and Radiation Division (2344A), Office of General Counsel, U.S. Environmental Protection Agency, 1200 Pennsylvania Avenue, NW., Washington, DC 20460, (202) 564-7606. Written comments should be sent to Michael Horowitz at the above address.

FOR FURTHER INFORMATION CONTACT: Michael Horowitz at 202-564-5583.

SUPPLEMENTARY INFORMATION: EPA has promulgated regulations in several separate rules requiring manufacturers of heavy-duty diesel motor vehicle engines and nonroad marine engines to control emissions by meeting not-to-exceed (NTE) emission standards and test procedures. 64 FR 73300 (Dec. 29, 1999), 65 FR 59896 (Oct. 6, 2000), 66 FR 5002 (Jan. 18, 2001), and 67 FR 68242 (Nov. 8, 2002). EPA also issued guidance concerning certification of heavy-duty diesel motor vehicle engines, on January 19, 2001. EMA and certain member companies (Manufacturer Parties) filed petitions challenging these rules and guidance. EPA and Manufacturer Parties entered into negotiations and have reached a proposed settlement of this litigation.

The proposed settlement agreement outlines a rulemaking proposal to establish a manufacturer-run in-use testing program for heavy-duty diesel motor vehicles. The proposed settlement also calls for issuance by EPA of guidance regarding implementation of the NTE regulations for heavy-duty diesel motor vehicle engines and nonroad marine diesel engines, and discusses the elements of a manufacturer-run in-use testing program for nonroad diesel engines.

For a period of thirty (30) days following the date of publication of this notice, EPA will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

Dated: June 4, 2003.
Lisa K. Friedman,
Associate General Counsel, Air and Radiation Law Office.

[FR Doc. 03-14873 Filed 6-11-03; 8:45 am]

BILLING CODE 6560-50-P